DEPARTMENT OF ENERGY

Federal Energy Regulatory Commission

[Docket No. OR18-35-000]

Notice of Petition for Declaratory Order; White Cliffs Pipeline, LLC

Take notice that on August 16, 2018, pursuant to Rule 207(a)(2) of the Federal Energy Regulatory Commission's (Commission) Rules of Practice and Procedure, 18 CFR 385.207(a)(2) (2017), White Cliffs Pipeline, L.L.C. (White Cliff), filed a declaratory order petition seeking approval of certain terms and conditions of service for White Cliffs' portion of a joint project to provide pipeline transportation of natural gas liquids (NGL) from receipt points in Weld County, Colorado to the NGL marketing hub of Mont Belvieu, Texas. The joint project is being undertaken in conjunction with DCP Wattenberg Pipeline, LLC and DCP Southern Hills Pipeline, LLC (the DCP Parties), all as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on September 20, 2018.

Dated: August 20, 2018.
Nathaniel J. Davis, Sr.,
Deputy Secretary.

[FR Doc. 2018-18322 Filed 8-23-18; 8:45 am]

BILLING CODE 6717-01-P